DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Survey of Current and Alumni SAMHSA Fellows of the Minority Fellowship Program (MFP) (OMMB No. 0930-0304)—REINSTATEMENT

SAMHSA is requesting Office of Management and Budget (OMB) approval for the conduct of surveys of current and Alumni MFP Fellows. This survey would gather information about current and Alumni MFP Fellows that will help SAMHSA meet its responsibilities under the Government Performance and Results Modernization Act for gathering, analyzing, and interpreting information about government-funded programs such as the MFP.

In 1973, in response to a substantial lack of ethnic and racial minorities in the mental health professions, the Center for Minority Health at the National Institute of Mental Health established the Minority Fellowship Program (MFP). Since its move to SAMHSA in 1992, the MFP has continued to facilitate the entry of minority graduate students and psychiatric residents into mental health careers and has increased the number of psychology, psychiatry, nursing, and social work professionals trained to provide mental health and substance abuse services to minority groups. The MFP, in turn, offers sustained grants to six national behavioral health professional associations: The American Association of Marriage and Family Therapy, the American Nurses Association, the American Psychiatric Association, the American Psychological Association, the Council on Social Work Education, and, as of August 2012, the National Board for Certified Counselors and Affiliates. Additional associations, such as the International Certification and Reciprocity Consortium and the National Association for Alcoholism and Drug Abuse Counselors, are expected to join the program later this year. Others may join in future years.

The MFP is supported by funds from all three SAMHSA centers: The Center for Mental Health Services (CMHS), the Center for Substance Abuse Treatment, and the Center for Substance Abuse Prevention. SAMHSA's CMHS has funded the development of the MFP surveys.

To assess the performance of the MFP, SAMHSA is requesting OMB approval for the conducting of a survey of current and Alumni MFP Fellows. This survey would gather information about current and Alumni MFP Fellows that will help SAMHSA meet its responsibilities under the Government Performance and Results Modernization Act for gathering, analyzing, and interpreting information about government-funded programs such as the MFP.

This package requests approval of two survey instruments (to be sent to approximately 1.300 Current and Alumni Fellows with an expected response rate of 788 respondents). Two online (Internet based) surveys (with the option for a hard copy mailed through the U.S. Postal Service) will be used with the following stakeholders in the MFP:

1. Current SAMHSA MFP Fellows currently receiving support during their doctoral-level training or psychiatric residency will be asked about their experiences in the MFP (from recruitment into the program through their participation in the various activities provided by the Grantees).

2. MFP Alumni who participated in the MFP during the time the program was administered by SAMHSA will be asked about their previous experiences as Fellows in the MFP and also about their subsequent involvement and leadership in their professions.

None of the data collected in the surveys will be redundant with any existing reporting requirements or data sources. Survey data will be obtained to assess the following measures:

1. Completing the Fellowship Program. Data on the completion of MFP goals, median and average of time to complete Fellowship goals, and the number of mentors, total mentored hours, and helpfulness of mentorship.

2. Employment of Past Fellows. Data on the initial type of employment to include employment in the substance abuse or mental health field in the year after completion of the MFP goals, type of employment situation categories (academia, clinical, etc., by private/public organization), and focus of work on underserved youth and elderly in urban and/or rural settings.

3. Current Employment Position. Data on current employment, including employment in the substance abuse or mental health field in the year after completion of the MFP Fellowship goals, type of employment situation categories (academia, clinical, etc., by private/public organization), and focus of work on underserved youth and elderly in urban and/or rural settings.

4. Improving Skills and Knowledge. Data on the number of certifications and licensures obtained by Fellows and median and average number of continuing education hours credited.

5. Number of Contributions to the Field. Data on the number of presentations at national meetings, professional publications, and national, state, or local honors or citations.

The total annual burden estimate for conducting the surveys is shown below:

Survey name | Number of respondents | Responses per respondent | Total number of responses | Hours per response | Total hours
Current SAMHSA MFP Fellows Survey | 128 | 1 | 128 | 0.33 | 42.24
SAMHSA MFP Alumni Survey | 660 | 1 | 660 | 0.67 | 442.20
Totals | 788 |  | 788 |  | 484.44

Send comments to Summer King, SAMHSA Reports Clearance Officer, Room 2-1057, One Choke Cherry Road, Rockville, MD 20857 or email her a copy at summer.king@samhsa.hhs.gov. Written comments should be received by August 1, 2014.

Summer King,
Statistician.

[FR Doc. 2014-12652 Filed 5-30-14; 8:45 am]

BILLING CODE 4162-20-P